FEDERAL RESERVE SYSTEM

12 CFR Part 201

[Docket No. R-1839]

RIN 7100 AG-80

Regulation A: Extensions of Credit by Federal Reserve Banks

Correction

In rule document 2024-21908 beginning on page 78221 in the issue of Wednesday, September 25, make the following correction:

On page 78221, the Docket Number should read as set forth above.

[FR Doc. C1-2024-21908 Filed 10-1-24; 8:45 am]

BILLING CODE 0099-10-D